DEPARTMENT OF ENERGY

Federal Energy Regulatory Commission

[Docket No. RP05-525-002]

Tennessee Gas Pipeline Company; Notice of Interruptible Transportation GSR Stipulation and Agreement Reconciliation Report

September 8, 2005.

Take notice that on August 26, 2005, Tennessee Gas Pipeline Company (Tennessee) in accordance with Article VI, Section D of the February 28, 1997 GSR Stipulation and Agreement (GSR Settlement) tendered for filing with the Federal Energy Regulatory Commission its GSR Interruptible Customers Reconciliation Report (Reconciliation Report).

The GSR Settlement requires Tennessee to file a Reconciliation Report with supporting documentation within ninety days of the conclusion of the GSR Interruptible Settlement Unit Cost Component Recovery Period to reconcile actual revenues from the GSR Interruptible Surcharge with the Interruptible Customers' share of the Restructuring Costs. The GSR Interruptible Settlement Unit Cost Component Recovery Period ended in the production of June 2005.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant and all parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

Docket No. RP05-525-002 -2-

[FR Doc. E5-5037 Filed 9-15-05; 8:45 am]

BILLING CODE 6717-01-P